DEPARTMENT OF HEALTH AND HUMAN SERVICES

Administration for Children and Families

Agency Recordkeeping/Reporting Requirements Under Emergency Review by the Office of Management and Budget (OMB)

Title: Family Violence Prevention and Services/Grants for Battered Women's Shelters: Grants to Tribes and Tribal Organizations; and Grants to State Domestic Violence Coalitions.

OMB No.: New Collection.

Description: This information collection is authorized under Title III of the Child Abuse Amendments of 1984, Public Law 98-457, as amended. In response to the program announcement, the respondents submit information about their service program and their eligibility. Information that is collected is used to award grants for shelter programs on Tribal reservations and in Alaska Villages, and to non-profit state domestic violence coalitions for service programs, technical assistance and training.

Respondents: Tribes and Tribal Organizations (including Alaska Native Villages) and State Domestic Violence Coalitions administering the Family Violence Prevention and Services programs.

Annual Burden Estimates
Instrument | Number of respondents | Number of responses per respondent | Average burden hours per response | Total burden hours
Tribes, Tribal Organizations, and Alaska Native Villages | 180 | 1 | 6 | 1,080
State Domestic Violence Coalitions | 53 | 1 | 6 | 318

Estimated Total Annual Burden Hours: 1,398.

Additional Information: ACF is requesting that OMB grant a 180 day approval for this information collection under procedures for emergency processing by May 20, 2005. A copy of this information collection, with applicable supporting documentation, may be obtained by calling the Administration for Children and Families, Arnold Jacobson, (202) 401-6888. In addition, a request may be made by sending an e-mail request to: arjacobson@acf.hhs.gov.

Comments and questions about the information collection described above should be directed to the following address by May 20, 2005: Office of Information and Regulatory Affairs, Attn: OMB Desk Officer for ACF, Office of Management and Budget, Paper Reduction Project, Attn: OMB Desk Officer for ACF. E-mail address: Katherine_T._Astrich@omb.eop.gov.

Dated: April 20, 2005.
Robert Sargis,
Reports Clearance Officer.

[FR Doc. 05-8215 Filed 4-22-05; 8:45 am]

BILLING CODE 4184-01-M